OFFICE OF PERSONNEL MANAGEMENT

Submission for Review: 3206-0204, Court Orders Affecting Retirement Benefits, 5 CFR 838.221, 838.421, and 838.721

AGENCY: U.S. Office of Personnel Management.

ACTION: 60-Day notice and request for comments.

SUMMARY: The Retirement Services, Office of Personnel Management (OPM) offers the general public and other federal agencies the opportunity to comment on an existing information collection request (ICR) 3206-0204, Court Orders Affecting Retirement Benefits. As required by the Paperwork Reduction Act of 1995 (Pub. L. 104-13, 44 U.S.C. chapter 35) as amended by the Clinger-Cohen Act (Pub. L. 104-106), OPM is soliciting comments for this collection.

DATES: Comments are encouraged and will be accepted until September 19, 2016. This process is conducted in accordance with 5 CFR 1320.1.

ADDRESSES: Interested persons are invited to submit written comments on the proposed information collection to the U.S. Office of Personnel Management, Retirement Services, 1900 E Street NW., Room 2347E, Washington, DC 20415-0001, Attention: Alberta Butler, or sent via electronic mail to Alberta.Butler@opm.gov.

FOR FURTHER INFORMATION CONTACT: A copy of this ICR with applicable supporting documentation, may be obtained by contacting the Retirement Services Publications Team, Office of Personnel Management, 1900 E Street NW., Room 3316-L, Washington, DC 20415, Attention: Cyrus S. Benson, or sent via electronic mail to Cyrus.Benson@opm.gov or faxed to (202) 606-0910.

SUPPLEMENTARY INFORMATION: Court Orders Affecting Retirement Benefits, 5 CFR 838.221, 838.421, and 838.721 describe how former spouses give us written notice of a court order requiring us to pay benefits to the former spouse. Specific information is needed before OPM can make court-ordered benefit payments. The regulations allow us to make a unique collection of only the information needed for a particular customer case and not over-burden our entire customer base by making a generic information collection request (ICR) that requires the former spouse (or their representative) to possibly review and complete information that we may already have access to. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Retirement Operations, Retirement Services, Office of Personnel Management.

Title: Court Orders Affecting Retirement Benefits, 5 CFR 838.221, 838.421, and 838.721.

OMB Number: 3206-0204.

Frequency: On occasion.

Affected Public: Individuals or Households.

Number of Respondents: 19,000.

Estimated Time per Respondent: 30 minutes.

Total Burden Hours: 9,500.

U.S. Office of Personnel Management.
Beth F. Cobert,
Acting Director.

[FR Doc. 2016-17225 Filed 7-20-16; 8:45 am]

BILLING CODE 6325-38-P